DEPARTMENT OF THE INTERIOR

Bureau of Land Management

[UTU 85338]

Notice of Proposed Land Transfer; Utah

AGENCY: Bureau of Land Management, Interior.

ACTION: Notice of Realty Action.

SUMMARY: The Department of Energy has filed an application requesting the Secretary of the Interior to permanently transfer 500 acres of public land to the Department of Energy (DOE) to be used for the Crescent Junction Uranium Mill Tailings Repository. As a result of the transfer, except for oil and gas leasing, the land would no longer be subject to the general land laws, including the United States mining laws, other mineral or geothermal leasing, and mineral material sales. The Secretary of the Interior would retain jurisdiction of any prior existing claims, rights, and interests in this land.

DATES: Comments must be received on or before February 7, 2008.

ADDRESSES: Comments should be sent to the Moab Field Office Manager, Bureau of Land Management, 82 East Dogwood Avenue, Moab, Utah 84532.

FOR FURTHER INFORMATION CONTACT: Mary von Koch, Realty Specialist, Moab Field Office at the above address, 435-259-2128.

SUPPLEMENTARY INFORMATION: The DOE has filed an application with the Bureau of Land Management (BLM) requesting transfer of the following described land to the DOE, subject to valid existing rights:

Salt Lake Meridian

T. 21 S., R. 19 E.,

Sec. 22, SE¼SE¼SW¼; NE¼SW¼SE¼, S½SW¼SE¼, and SE¼SE¼;

Sec. 23, S½NE¼SW¼, S½NW¼SW¼, and S½SW¼;

Sec. 26, N½NW¼, N½SW¼NW¼, and NW¼SE¼NW¼;

Sec. 27, N½NE¼, SW¼NE¼, N½SE¼NE¼, SW¼SE¼NE¼, E½NE¼NW¼, NE¼, and E½SE¼NW¼

The area described contains 500 acres in Grand County.

The purpose of the proposed land transfer is to protect public health and safety by permanently transferring the land to the DOE to be used for the disposal of the Moab Mill Site uranium mill tailings. The land would become a United States Nuclear Regulatory Commission licensed disposal site for permanent custody and care of uranium byproduct materials. The Uranium Mill Tailings Radiation Control Act of 1978 (42 U.S.C. 7916 (2000)), as amended, designates the DOE as the custodial agency.

The land proposed for transfer is located within a temporary withdrawal created by Public Land Order No. 7649 and is therefore currently closed to mining and mineral leasing.

The oil and gas portion of the mineral estate would be reserved to the Secretary of the Interior.

As a result of the transfer, except for oil and gas leasing, the land would no longer be subject to the general land laws, including the United States mining laws, other mineral or geothermal leasing, and mineral material sales.

For a period of 90 days from the date of publication of this notice, all persons who wish to submit comments, suggestions, or objections in connection with the proposed action may present their views in writing to the BLM Moab Field Office Manager, at the address noted above.

Comments, including names and street addresses of respondents, and records relating to the proposed land transfer will be available for public review during regular business hours at the BLM Moab Field Office at the address specified above. Individual respondents may request confidentiality. Before including your address, phone number, e-mail address, or other personal identifying information in your comment, you should be aware that your entire comment—including your personal identifying information—may be made publicly available at any time. While you can ask us in your comment to withhold your personal identifying information from public review, we cannot guarantee that we will be able to do so.

Notice is hereby given that an opportunity for a public meeting is afforded in connection with the proposed land transfer. All interested persons who desire a public meeting for the purpose of being heard on the proposed transfer must submit a written request to the BLM Moab Field Office at the address indicated above within 90 days from the date of publication of this notice. If the authorized officer determines that a public meeting will be held, a notice of the time and place will be published in the Federal Register at least 30 days before the scheduled date of the meeting.

There are no suitable alternatives. A right-of-way, interagency, or cooperative agreement would not permanently transfer the land to the DOE as directed by the Uranium Mill Tailings Radiation Control Act, and they would not adequately constrain nondiscretionary uses that could adversely affect public health and safety.

Under the Uranium Mill Tailings Radiation Control Act, the DOE permanently acquires a disposal site for perpetual surveillance and maintenance. The Secretary of the Interior would retain the authority to administer any existing claims, rights, and interests in this land that were established before the effective date of the land transfer.

Prior to selecting the Crescent Junction Uranium Mill Tailings Repository site, all potential sites within a reasonable vicinity of the Moab Mill Site were evaluated. In addition to site suitability studies, extensive opportunity for input was afforded to government agencies and the general public.

This application will be processed in accordance with the regulations set forth in 43 CFR 2300.

(Authority: 43 CFR 2310.3-1)

Dated: November 2, 2007.
Selma Sierra,
State Director.

[FR Doc. E7-22010 Filed 11-8-07; 8:45 am]

BILLING CODE 6450-01-P